ENVIRONMENTAL PROTECTION AGENCY

[FRL OP-OFA-183]

Environmental Impact Statements; Notice of Availability

Responsible Agency: Office of Federal Activities, General Information 202-564-5632 or https://www.epa.gov/nepa.

Weekly receipt of Environmental Impact Statements (EIS)

Filed June 9, 2025 10 a.m. EST Through June 13, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250082, Final, OSM, MT, Bull Mountains Mine No. 1 Amendment 3, Contact: Marcelo Calle 303-236-2929.

Pursuant to E.O. 14156 and approved alternative arrangements issued by CEQ on April 23, 2025, OSMRE has issued a single document that consists of a final environmental impact statement (FEIS) and record of decision (ROD). Therefore, the 30-day wait/review period under NEPA does not apply to this action.

EIS No. 20250083, Draft, NASA, USN, HI, Pacific Missile Range Facility and Koke'e Park Geophysical Observatory Real Estate Kaua'i, HI, Comment Period Ends: 08/07/2025, Contact: William Manley 808-425-8642.

EIS No. 20250084, Final Supplement, GSA, AZ, Expansion and Modernization of the Raul Hector Castro Land Port of Entry and Proposed Commercial Land Port of Entry in Douglas, Arizona, Review Period Ends: 07/21/2025, Contact: Osmahn Kadri 415-522-3617.

EIS No. 20250085, Final, USFS, AZ, Resolution Copper Project & Land Exchange, Review Period Ends: 07/21/2025, Contact: Michelle Tom 602-225-5200.

EIS No. 20250086, Draft, NRC, WY, Environmental Impact Statement for the Construction Permit Application for Kemmerer Power Station Unit 1: Draft Report for Comment, Comment Period Ends: 08/04/2025, Contact: Patricia Vokoun 301-415-3470.

Dated: June 13, 2025.
Nancy Abrams,
Associate Director, Office of Federal Activities.

[FR Doc. 2025-11217 Filed 6-18-25; 8:45 am]

BILLING CODE 6560-50-P